DEPARTMENT OF DEFENSE

Department of the Navy

Privacy Act of 1974; System of Records

AGENCY: Department of the Navy.

ACTION: Notice to add system of records.

SUMMARY: The Department of the Navy proposes to add a system of records notice to its inventory of record systems subject to the Privacy Act of 1974 (5 U.S.C. 552a), as amended.

DATES: This action will be effective on September 9, 2004 unless comments are received that would result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The proposed system reports, as required by 5 U.S.C. 552a(r) of the Privacy Act, were submitted on August 3, 2004, to the House Committee on Government Reform, the Senate Committee on Governmental Affairs, and the Office of Management and Budget (OMB) pursuant to paragraph 4c of Appendix I to OMB Circular No. A-130, ‘Federal Agency Responsibilities for Maintaining Records About Individuals,’ dated February 8, 1996, (61 FR 6427, February 20, 1996).

Dated: August 4, 2004.
L.M. Bynum,
Alternate OSD Federal Register Liaison Officer, Department of Defense.

NM05800-2

System name:

DON Alternative Dispute Resolution Program.

System location:

Department of the Navy Alternative Dispute Resolution Program, Office of the General Counsel of the Navy, 720 Kennon Street SE., Room 214, Washington Navy Yard, DC 20374-5012.

Categories of individuals covered by the system:

Individuals involved in Department of the Navy (DON) Dispute Resolution (ADR) activities.

Categories of records in the system:

Records pertaining to mediator, facilitator, and other neutral qualifications including security clearance, experience, training, languages spoken and read, status of certification, names, addresses, telephone numbers and e-mail addresses.

Records pertaining to ADR program activities conducted including convening and scheduling records, evaluation forms, form of ADR, case type, dates, times and locations of ADR sessions, participant information including names, addresses, telephone numbers and e-mail addresses, subject matter of the mediation or other ADR activity, outcomes of ADR activities, and notes pertaining to the ADR activity.

Authority for maintenance of the system:

Administrative Dispute Resolution Act of 1996, Pub. L. 104-320 § 3, 110 Stat. 3872; 10 U.S.C. 5013, Secretary of the Navy; 10 U.S.C. 5041, Headquarters, Marine Corps; and SECNAVINST 5800.13, Alternative Dispute Resolution (ADR).

Purpose(s):

To identify Navy Certified Mediators and other neutrals for assignment to cases; to record the accomplishment of training and other prerequisites necessary to become and remain Navy Certified Mediators and to determine the certification status of Mediators and other neutrals involved in DON ADR programs and activities; to schedule ADR activities such as mediation; to notify participants of scheduled ADR activities; to assign mediators, facilitators, and other neutrals to cases; to record the outcomes of mediation activities, and to gather information to assess and evaluate the effectiveness of the DON Alternative Dispute Resolution Program.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

File cabinets and computerized ADR tracking system.

Retrievability:

Name of individual.

Safeguards:

Manual records are maintained in file cabinets under the control of authorized personnel during working hours. The office space in which the file cabinets are located is locked outside of official working hours. Computer terminals are located in supervised areas. Access is controlled by password or other user code system.

Retention and disposal:

Disposition pending (until the National Archives and Records Administration has approved the retention and disposition schedule for these records, treat them as permanent).

System manager(s) and address:

Deputy Dispute Resolution Specialist and ADR Counsel, General Counsel of the Navy, 720 Kennon Street SE., Room 214, Washington Navy Yard, DC 20374-5012.

Notification procedure:

Individuals seeking to determine whether information about themselves is contained in this system should address written inquiries to the Department of the Navy Alternative Dispute Resolution Program, Office of the General Counsel of the Navy, 720 Kennon Street SE., Room 214, Washington Navy Yard, DC 20374-5012.

Written requests should include the full name and address of the individual and be signed.

Record access procedures:

Individuals seeking access to information about themselves contained in this system of records should address written inquiries to the Department of the Navy Alternative Dispute Resolution Program, Office of the General Counsel of the Navy, 720 Kennon Street SE., Room 214, Washington Navy Yard, DC 20374-5012. Written requests should include the full name and address of the individual and be signed.

Contesting record procedures:

The Navy's rules for accessing records, and for contesting contents and appealing initial agency determinations are published in Secretary of the Navy Instruction 5211.5; 32 CFR part 701; or may be obtained from the system manager.

Record source categories:

Individual; evaluations by parties to a dispute of the effectiveness of relevant ADR efforts; and information provided by parties seeking to use Department of the Navy ADR program services.

Exemptions claimed for the system:

None.

[FR Doc. 04-18183 Filed 8-9-04; 8:45 am]

BILLING CODE 5001-06-M